Proclamation 8588 of October 15, 2010

White Cane Safety Day, 2010

By the President of the United States of America

A Proclamation

The white cane, in addition to being a practical mobility tool, serves as a symbol of dignity, freedom, and independence for individuals who are blind or visually impaired. On White Cane Safety Day, our Nation celebrates the immeasurable contributions the Americans who use canes have made as valued members of our diverse country. We also examine our progress and recommit to full integration, equality, education, and opportunity for Americans with visual impairments.

Today, students with disabilities are reaching achievements considered unattainable just a few decades ago. Many gains have been realized throughout our educational system, but we must accomplish more so that America’s technological advances and assistive tools are available for the benefit of all students. My Administration is committed to ensuring that electronic readers and other electronic equipment used by schools, including postsecondary institutions, are accessible to individuals who are blind or visually impaired. We are also providing guidance and technical assistance to help colleges and universities fully comply with the legal requirements to use emerging technology that is accessible to all students in the classroom. Blindness and visual impairments are not impediments to obtaining knowledge, and we must highlight the availability of existing tools to facilitate communication and work to improve access to them. Additionally, the Braille code opens doors of literacy and learning to countless individuals with visual impairments across our country and around the world, and we must work with advocates and leaders throughout our society to promote and improve Braille literacy among our students.

Americans with disabilities are Americans first and foremost, entitled to both full participation in our society and full opportunity in our economy. My Administration is working to increase information access so Americans who are blind or visually impaired can fully participate in our increasingly interconnected world. To expand career options for people with disabilities in the Federal Government, I signed an Executive Order directing executive departments and agencies to design strategies to increase recruitment and hiring of these valued public servants. I was also pleased to sign the Twenty-First Century Communications and Video Accessibility Act into law earlier this month to ensure that the jobs of the future are accessible to all. This legislation will make it easier for people who are deaf, blind, or live with a visual impairment to use the technology our 21st-century economy depends on, from navigating digital menus on a television to sending emails on a smart phone.

As we observe the 20th anniversary of the Americans with Disabilities Act this year, my Administration reaffirms our national commitment to creating access to employment, education, and social, political, and economic opportunities for Americans with disabilities. Together with individuals who are blind or visually impaired, service providers, educators, and employers, we will uphold our country as an inclusive, welcoming place for blind or visually impaired people to work, learn, play, and live.

By joint resolution approved on October 6, 1964 (Public Law 88-628, as amended), the Congress designated October 15 of each year as White Cane Safety Day to recognize the contributions of Americans who are blind or have low vision.

NOW, THEREFORE, I, BARACK OBAMA, President of the United States of America, do hereby proclaim October 15, 2010, as White Cane Safety Day. I call upon all public officials, business and community leaders, educators, librarians, and Americans to observe this day with appropriate ceremonies, activities, and programs.

IN WITNESS WHEREOF, I have hereunto set my hand this fifteenth day of October, in the year of our Lord two thousand ten, and of the Independence of the United States of America the two hundred and thirty-fifth.

[FR Doc. 2010-26646

Filed 10-19-10; 8:45 am]

Billing code 3195-W1-P